DEPARTMENT OF ENERGY

Federal Energy Regulatory Commission

[Docket No. RP00-43-001]

Tuscarora Gas Transmission Company; Notice of Compliance Filing

January 27, 2000.

Take notice that on January 18, 2000, Tuscarora Gas Transmission Company (Tuscarora) tendered for filing as part of its FERC Gas Tariff, Original Volume No. 1, the following tariff sheets effective February 17, 2000:

Third Revised Sheet No. 37B

Original Sheet No. 37C

First Revised Sheet No. 47

Tuscarora asserts that the purpose of this filing is to comply with the Commission's November 22, 1999 Order, in Docket No. RP00-43-000. Specifically, the November 22 Order requires that Tuscarora submit revised tariff sheets reflecting its proposal to net imbalances and calculate shipper imbalances. Tuscarora stated that copies of this filing were mailed to customers of Tuscarora and interested state regulatory agencies and all parties to Docket No. RP00-43-000.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2239 Filed 2-1-00; 8:45 am]

BILLING CODE 6717-01-M